RECOVERY ACCOUNTABILITY AND TRANSPARENCY BOARD

Privacy Act of 1974; Systems of Records

AGENCY: Recovery Accountability and Transparency Board

ACTION: Notice of Privacy Act systems of records.

SUMMARY: The Recovery Accountability and Transparency Board (Board) proposes to establish systems of records that are subject to the Privacy Act of 1974 (Privacy Act or the Act). In this notice, the Board provides the required information on the systems of records.

FOR FURTHER INFORMATION CONTACT: Jennifer Dure, General Counsel, Recovery Accountability and Transparency Board, 1717 Pennsylvania Avenue, NW., Suite 700, Washington, DC 20006.

SUPPLEMENTARY INFORMATION: Title 5 U.S.C. 552a(e)(4) and (11) provide that the public be given a 30-day period in which to comment on any new routine use of a system of records. The Office of Management and Budget (OMB), which has oversight responsibilities under the Act, requires a 40-day period in which to conclude its review of the new systems. Therefore, please submit any comments by August 10, 2009. The public, OMB, and the Congress are invited to send written comment to Jennifer Dure, General Counsel, Recovery Accountability and Transparency Board, 1717 Pennsylvania Avenue, NW., Suite 700, Washington, DC 20006.

In accordance with 5 U.S.C. 552a(r), the Board has provided a report to OMB and the Congress on the proposed systems of records.

Recovery Accountability and Transparency Board

Table of Contents

RATB-1—Telephone Directory/Locator System.

RATB-2—Employee Credential System.

RATB-3—Budget System.

RATB-4—Payroll and Leave Records.

RATB-5—Time and Attendance Records.

RATB-6—Training Management System.

RATB-7—Freedom of Information-Privacy Act System.

RATB-8—Applicants for Employment Records.

RATB-1

SYSTEM NAME:

Telephone Directory/Locator System.

SECURITY CLASSIFICATION:

None.

SYSTEM LOCATION:

Recovery Accountability and Transparency Board, 1717 Pennsylvania Avenue, NW., Suite 700, Washington, DC 20006.

CATEGORIES OF INDIVIDUALS COVERED BY THE SYSTEM:

Current employees of the Board and vendors or other Federal employees located in the Board's office.

CATEGORIES OF RECORDS IN THE SYSTEM:

Name, title, agency office address, agency mailing address, telephone number, standard administrative code, and social security number (SSN).

AUTHORITY FOR MAINTENANCE OF THE SYSTEM:

5 U.S.C. 301, 40 U.S.C. 121(c).

PURPOSES:

The records are used to develop and maintain current employee locator and directory listings. The locator listings are used by the Board for the purpose of locating employees and for routing mail. The directory listings are used to produce agency telephone directories on an as-needed basis.

ROUTINE USES OF RECORDS MAINTAINED IN THE SYSTEM, INCLUDING CATEGORIES OF USERS AND PURPOSES OF SUCH USES:

A. In the event of litigation where the defendant is (1) the Board, any component of the Board, or any employee of the Board in his or her official capacity; (2) the United States where the Board determines that the claim, if successful, is likely to directly affect the operations of the Board or any of its components; or (3) any Board employee in his or her individual capacity where the Justice Department has agreed to represent such employee, the Board may disclose such records as it deems desirable or necessary to the Justice Department to enable that Department to present an effective defense, provided such disclosure is compatible with the purpose for which the records were collected.

B. Records may be disclosed to student volunteers, individuals working under a personal services contract, and other individuals performing functions for the Board but technically not having the status of agency employees, if they need access to the records in order to perform their assigned agency functions.

POLICIES AND PROCEDURES FOR STORING, RETRIEVING, ACCESSING, RETAINING, AND DISPOSING OF RECORDS IN THE SYSTEM:

STORAGE:

Variously stored in card files, computer printouts, paper forms, magnetic tape.

RETRIEVABILITY:

Alphabetically by employee name in certain instances, also by agency and/or title.

SAFEGUARDS:

Only authorized personnel have access to master lists.

RETENTION AND DISPOSAL:

Retained as long as individual is employed by or associated with the Board, then information deleted from files by appropriate method.

SYSTEM MANAGER(S) AND ADDRESS:

Executive Assistant, Recovery Accountability and Transparency Board, 1717 Pennsylvania Avenue, NW., Suite 700, Washington, DC 20006.

NOTIFICATION PROCEDURE:

Inquiries concerning this system should be directed to General Counsel, Recovery Accountability and Transparency Board, 1717 Pennsylvania Avenue, NW., Suite 700, Washington, DC 20006.

RECORDS ACCESS PROCEDURES:

Same as notification procedure. Requesters should also reasonably specify the record contents being sought.

CONTESTING RECORD PROCEDURES:

Contact the official at the address specified under notification procedure above, and reasonably identify the record and specify the information to be contested and corrective action sought with supporting justification.

RECORD SOURCE CATEGORIES:

Individual employees.

EXEMPTIONS CLAIMED FOR THIS SYSTEM:

None.

RATB-2

SYSTEM NAME:

Employee Credential System.

SECURITY CLASSIFICATION:

None.

SYSTEM LOCATION:

Recovery Accountability and Transparency Board, 1717 Pennsylvania Avenue, NW., Suite 700, Washington, DC 20006.

CATEGORIES OF INDIVIDUALS COVERED BY THE SYSTEM:

Current or former employees.

CATEGORIES OF RECORDS IN THE SYSTEM:

The system maintains a record for each employee issued an agency credential with badge or medallion.

AUTHORITY FOR MAINTENANCE OF THE SYSTEM:

5 U.S.C. 301.

PURPOSE(S):

The information is used to maintain a record of each individual issued an agency credential as well as the accountability of each badge and medallion.

ROUTINE USES OF RECORDS MAINTAINED IN THE SYSTEM, INCLUDING CATEGORIES OF USERS AND THE PURPOSES OF SUCH USES:

A. Disclosure may be made to a Member of Congress in response to an inquiry made at the request of an employee employed by the Board.

B. Information may be disclosed to any civil or criminal law enforcement agency, whether Federal, state, or local or foreign, which requires information relevant to a civil or criminal investigation.

C. Information may be disclosed to officials and employees of any Federal agency which requires information relevant to an agency decision concerning the hiring, appointment or retention of an employee; the issuance of a security clearance; the execution of a security or suitability investigation or the classification of a job.

D. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by the Board and who are covered by this system, including (but not limited to) decisions to effect any necessary remedial actions, e.g., debt collection activity, disciplinary and/or other appropriate personnel actions, and/or other law enforcement related actions, where appropriate.

E. To the appropriate Federal, state, local, foreign or other public authority responsible for investigating, prosecuting, enforcing or implementing a statute, rule, regulation, or order where the Board becomes aware of an indication of a violation or potential violation of civil or criminal law or regulation.

F. Information permitted to be released to the news media and that may be made available unless it is determined that release of the specific information in the context of a particular case would constitute an unwarranted invasion of personal privacy.

G. A record may be disclosed to the National Archives and Records Administration and the General Services Administration during a records management inspection conducted under 44 U.S.C. 2904 and 2906.

DISCLOSURE TO CONSUMER REPORTING AGENCIES:

None.

POLICIES AND PRACTICES FOR STORING, RETRIVING, ACCESSING, RETAINING, AND DISPOSING OF RECORDS IN THE SYSTEM:

STORAGE:

The information is stored on a standalone computer system.

RETRIEVABILITY:

Information is retrieved by the name of the employee.

SAFEGUARDS:

Only authorized personnel have access to standalone computer system.

RETENTION AND DISPOSAL:

Records in this system are retained and disposed of in accordance with General Records Schedule 18.

SYSTEM MANAGER(S) AND ADDRESS:

Executive Assistant, Recovery Accountability and Transparency Board, 1717 Pennsylvania Avenue, NW., Suite 700, Washington, DC 20006.

NOTIFICATION PROCEDURE:

Inquiries concerning this system should be directed to the Freedom of Information Act Office, Recovery Accountability and Transparency Board, 1717 Pennsylvania Avenue, NW., Suite 700, Washington, DC 20006.

RECORDS ACCESS PROCEDURES:

To locate a specific record, you must provide the name of the individual and provide at least two items of identification (date of birth, employee identification number or similar information). The address is the same as indicated in the notification procedure.

CONTESTING RECORD PROCEDURES:

Contact the official at the address specified under notification procedure above and reasonably identify the record and specify the information to be contested.

RECORD SOURCE CATEGORIES:

The information is provided by employees of the Board.

EXEMPTIONS CLAIMED FOR THIS SYSTEM:

None.

RATB-3

SYSTEM NAME:

Budget System.

SECURITY CLASSIFICATION:

None.

SYSTEM LOCATION:

Recovery Accountability and Transparency Board, 1717 Pennsylvania Avenue, NW., Suite 700, Washington, DC 20006.

CATEGORIES OF INDIVIDUALS COVERED BY THE SYSTEM:

Current and former employees of the Board.

CATEGORIES OF RECORDS IN THE SYSTEM:

The system maintains a record of each individual employed by the agency. Each record contains the name, SSN, position title, salary and benefits of the individual.

AUTHORITY FOR MAINTENANCE OF THE SYSTEM:

5 U.S.C. 301.

PURPOSE(S):

The information is used to make payroll projections for budget purposes and to track employees by organization within the Board.

ROUTINE USES OF RECORDS MAINTAINED IN THE SYSTEM, INCLUDING CATEGORIES OF USERS AND THE PURPOSES OF SUCH USES:

A. To provide information to a Member of Congress in response to an inquiry from that Member made at the request of the employee or contractor.

B. To disclose information to another Federal agency, to a court, or to a party in litigation before a court or in an administrative proceeding being conducted by a Federal agency when the government is a party to the judicial or administrative proceeding.

C. Information may be disclosed to any civil or criminal law enforcement agency, whether Federal, state, or local or foreign, which requires information relevant to a civil or criminal investigation.

D. Information may be disclosed to officials and employees of any Federal agency which requires information relevant to an agency decision concerning the hiring, appointment or retention of an employee; the issuance of a security clearance, the execution of a security or suitability investigation or the classification of a job.

E. To the appropriate Federal, state, local, foreign or other public authority responsible for investigating, prosecuting, enforcing or implementing a statute, rule, regulation, or order where the Board becomes aware of an indication of a violation or potential violation of civil or criminal law or regulation.

F. A record may be disclosed to the National Archives and Records Administration and the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

The information is stored on a personal computer which is password protected.

RETRIEVABILITY:

The information can be retrieved by the name and/or personal identifier of the employee.

SAFEGUARDS:

The information is maintained on a server with limited access by user-ID and password.

RETENTION AND DISPOSAL:

The information is retained and disposed of in accordance with General Records Schedule 5.

SYSTEM MANAGER(S) AND ADDRESS:

Assistant Director, Finance and Budget, Recovery Accountability and Transparency Board, 1717 Pennsylvania Avenue, NW., Suite 700, Washington, DC 20006.

NOTIFICATION PROCEDURE:

Inquiries concerning this system should be directed to the Freedom of Information Act Office, Recovery Accountability and Transparency Board, 1717 Pennsylvania Avenue, NW., Suite 700, Washington, DC 20006.

RECORDS ACCESS PROCEDURES:

To locate a specific record, you must provide the name of the individual and provide at least two items of identification (date of birth, employee identification number, dates of employment or similar information). The address is the same as indicated in the notification procedure.

CONTESTING RECORD PROCEDURES:

Contact the official at the address specified under notification procedure above and reasonably identify the record and specify the information to be contested.

RECORD SOURCE CATEGORIES:

The information is provided by current and former employers.

EXEMPTIONS CLAIMED FOR THE SYSTEM:

None.

RATB-4

SYSTEM NAME:

Payroll and Leave Records.

SECURITY CLASSIFICATION:

None.

SYSTEM LOCATION:

Recovery Accountability and Transparency Board, 1717 Pennsylvania Avenue, NW., Suite 700, Washington, DC 20006.

CATEGORIES OF INDIVIDUALS COVERED BY THE SYSTEM:

Current and former employees of the Board.

CATEGORIES OF RECORDS IN THE SYSTEM:

These records contain information relating to the individual's name, SSN, age, sex, marital status, appointment, tenure, employment status and occupation series. These records also contain data as of the year to date and the most recent pay period with regard to leave earned, used and balances, withholdings and allotments to financial institutions.

AUTHORITY FOR MAINTENANCE OF THE SYSTEM:

5 U.S.C. 301; 44 U.S.C. 3101; 5 CFR Part 550.

PURPOSE(S):

Document employee salary, tax and related information and to track and document employee leave transfers, reinstatements and other leave issues.

ROUTINE USES OF RECORDS MAINTAINED IN THE SYSTEM, INCLUDING CATEGORIES OF USERS AND THE PURPOSES OF SUCH USES:

A. To provide information to a Member of Congress from the record of an individual in response to an inquiry from that Member made at the request of the employee or contractor.

B. To disclose information to another Federal agency, to a court, or to a party in litigation before a court or in an administrative proceeding being conducted by a Federal agency when the government is a party to the judicial or administrative proceeding.

C. Information may be disclosed to any civil or criminal law enforcement agency, whether Federal, state, or local or foreign, which requires information relevant to a civil or criminal investigation.

D. Information may be disclosed to officials and employees of any Federal agency which requires information relevant to an agency decision concerning the hiring, appointment or retention of an employee; the issuance of a security clearance; the execution of a security or suitability investigation or the classification of a job.

E. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by the Board and who are covered by this system, including (but not limited to) decisions to effect any necessary remedial actions, e.g., debt collection activity, disciplinary and/or other appropriate personnel actions, and/or other law enforcement related actions, where appropriate.

F. To the appropriate Federal, state, local, foreign or other public authority responsible for investigating, prosecuting, enforcing or implementing a statute, rule, regulation, or order where the Board becomes aware of an indication of a violation or potential violation of civil or criminal law or regulation.

G. To disclose to the Office of Personnel Management in accordance with the agency's responsibility for evaluation and oversight of Federal personnel management.

H. To provide a copy of an employee's Department of the Treasury Form W-2, Wage and Tax Statement, to the state, city or other local jurisdiction which is authorized to tax the employee's compensation. The record will be provided in accordance with a withholding agreement between the state, city or other jurisdiction and the Department of the Treasury pursuant to 5 U.S.C. 5516, 5517 or 5520, or in response to a written request from an appropriate official of the taxing jurisdiction. The request must include a copy of the applicable statute or ordinance authorizing the taxation of compensation and should indicate whether the authority of the jurisdiction to tax their employee is based on a place of residence, place of employment or both.

I. To disclose information to the General Services Administration Agency Liaison Division to effect distribution of pay according to employee directions and other authorized purposes.

J. Release information to the Internal Revenue Service (IRS). Information contained in the system may be disclosed to the IRS to obtain taxpayer mailing addresses for the purpose of locating such taxpayer to collect or compromise a Federal claim against the taxpayer.

K. Information directly related to the identity of debtors and the history of claims contained in the system of records may be disclosed to consumer reporting agencies for the purpose of encouraging repayment of overdue debts. Such disclosures will be made only when a claim is overdue and only after due process steps have been taken to notify the debtor and give him or her a chance to meet the terms of the debt.

L. Information may be released about debtors to the U.S. Treasury or other Federal employers in order to effect salary or administrative offsets. Information contained in the system of records may be disclosed to an employer in order to effect salary or administrative offsets to satisfy a debt owed the United States by that person. Such disclosures will be made only when all procedural steps established by the Debt Collection Act have been taken.

M. To disclose information to contractors, grantees, experts, consultants or volunteers performing or working on a contract, services or job for the Board.

N. Information may be disclosed to the General Accountability Office (GAO) during a records management audit or inspection pursuant to GAO's audit authority.

O. A record may be disclosed to the National Archives and Records Administration and to the General Services Administration during a records management inspection conducted under 44 U.S.C. 2904 and 2906.

DISCLOSURE TO CONSUMER REPORTING AGENCIES:

Disclosure to consumer reporting agencies under subsection (b)(12) of the Privacy Act. Disclosure may be made from this system to consumer reporting agencies as defined in the Debt Collection Act of 1982 (31 U.S.C. 3701(a)(3)) or the Fair Credit Reporting Act (15 U.S.C. 1681a(f)).

POLICIES AND PRACTICES FOR STORING, RETRIEVING, ACCESSING, RETAINING, AND DISPOSING OF RECORDS IN THE SYSTEM:

STORAGE:

Information is retrieved by the name or personal identifier of the individual.

SAFEGUARDS:

This information is maintained on either a password-protected computer or filed in a locked file cabinet in a private office.

RETENTION AND DISPOSAL:

Information is maintained and disposed of in accordance with General Records Schedule 2.

SYSTEM MANAGER(S) AND ADDRESS:

Chief, Mission Support Services, Recovery Accountability and Transparency Board, 1717 Pennsylvania Avenue, NW., Suite 700, Washington, DC 20006.

NOTIFICATION PROCEDURE:

Inquiries concerning this system should be directed to the Freedom of Information Act Office, Recovery Accountability and Transparency Board, 1717 Pennsylvania Avenue, NW., Suite 700, Washington, DC 20006.

RECORDS ACCESS PROCEDURES:

To locate a specific record, you must provide the name of the individual and provide at least two items of identification (date of birth, employee identification number, dates of employment or similar information). The address is the same as indicated in the notification procedure.

CONTESTING RECORD PROCEDURES:

Contact the official at the address specified under notification procedure above and reasonably identify the record and specify the information to be contested.

RECORD SOURCE CATEGORIES:

(1) Individuals who are current or former employees of the agency; (2) General Services Administration Agency Liaison Division.

EXEMPTIONS CLAIMED FOR THE SYSTEM:

None.

RATB-5

SYSTEM NAME:

Time and Attendance Records.

SECURITY CLASSIFICATION:

None.

SYSTEM LOCATION:

Recovery Accountability and Transparency Board, 1717 Pennsylvania Avenue, NW., Suite 700, Washington, DC 20006.

CATEGORIES OF INDIVIDUALS COVERED BY THE SYSTEM:

Current and former employees of the Board.

CATEGORIES OF RECORDS IN THE SYSTEM:

Time and attendance reports, leave slips and audit reports which contain the name, SSN, grade, leave category, leave balances and organization code.

AUTHORITY FOR MAINTENANCE OF THE SYSTEM:

5 CFR Part 630.

PURPOSE(S):

To provide control, reporting and accounting for employee leave.

ROUTINE USES OF RECORDS MAINTAINED IN THE SYSTEM, INCLUDING CATEGORIES OF USERS AND THE PURPOSES OF SUCH USES:

A. To provide information to a Member of Congress from the record of an individual in response to an inquiry from that Member made at the request of the employee or contractor.

B. To disclose information to another Federal agency, to a court, or to a party in litigation before a court or in an administrative proceeding being conducted by a Federal agency when the government is a party to the judicial or administrative proceeding.

C. Information may be disclosed to any civil or criminal law enforcement agency, whether Federal, state, or local or foreign, which requires information relevant to a civil or criminal investigation.

D. Information may be disclosed to officials and employees of any Federal agency which requires information relevant to an agency decision concerning the hiring, appointment or retention of an employee; the issuance of a security clearance; the execution of a security or suitability investigation or the classification of a job.

E. Relevant information may be disclosed in a proceeding before an administrative forum, including Ad Hoc forums, which may or may not include an Administrative Law Judge, and which may or may not convene public hearings/proceedings, or to other established adjudicatory or regulatory agencies, e.g., the Merit Systems Protection Board, the Federal Labor Relations Authority, or other agencies with similar or related statutory responsibilities, where necessary to adjudicate decisions affecting individuals who are employed by the Board and who are covered by this system, including (but not limited to) decisions to effect any necessary remedial actions, e.g., debt collection activity, disciplinary and/or other appropriate personnel actions, and/or other law enforcement related actions where appropriate.

F. To the appropriate Federal, state, local, foreign or other public authority responsible for investigating, prosecuting, enforcing, or implementing a statute, rule, regulation, or order where the Board becomes aware of an indication of a violation or potential violation of civil or criminal law or regulation.

G. To disclose to the Office of Personnel Management in accordance with the agency's responsibility for evaluation and oversight of the Federal personnel management.

H. To disclose information to the General Services Administration Agency Liaison Division to effect maintenance of leave.

I. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

The information is stored manually in individual folders. Electronic access to the information is maintained on a password protected computer.

RETRIEVABILITY:

Information is retrieved by the name of the individual employee.

SAFEGUARDS:

Information is either locked in a file cabinet or in offices that are locked.

RETENTION AND DISPOSAL:

Information is maintained and disposed of in accordance with General Record Schedule 2.

SYSTEM MANAGER(S) AND ADDRESS:

Executive Assistant, Recovery Accountability and Transparency Board, 1717 Pennsylvania Avenue, NW., Suite 700, Washington, DC 20006.

NOTIFICATION PROCEDURE:

Inquiries concerning this system should be directed to the Freedom of Information Act Office, Recovery Accountability and Transparency Board, 1717 Pennsylvania Avenue, NW., Suite 700, Washington, DC 20006.

RECORDS ACCESS PROCEDURES:

To locate a specific record, you must provide the name of the individual and provide at least two items of identification (date of birth, employee identification number, or similar information). The address is the same as indicated in the notification procedure.

CONTESTING RECORD PROCEDURES:

Contact the official at the address specified under notification procedure above and reasonably identify the record and specify the information to be contested.

RECORD SOURCE CATEGORIES:

(1) Current and former employees; (2) current and former Time and Attendance personnel; (3) current or former employers; (4) General Services Administration Agency Liaison Division staff.

EXEMPTIONS CLAIMED FOR THE SYSTEM:

None.

RATB-6

SYSTEM NAME:

Training Management System.

SECURITY CLASSIFICATION:

None.

SYSTEM LOCATION:

Recovery Accountability and Transparency Board, 1717 Pennsylvania Avenue, NW., Suite 700, Washington, DC 20006.

CATEGORIES OF INDIVIDUALS COVERED BY THE SYSTEM:

Current and former employees of the agency.

CATEGORIES OF RECORDS IN THE SYSTEM:

Records containing the type and dates of training programs for Board employees.

AUTHORITY FOR MAINTENANCE OF THE SYSTEM:

5 U.S.C. 301.

PURPOSE(S):

To track individual employees and their training history, class schedules, attendance and to ensure prerequisites have been met.

ROUTINE USES OF RECORDS MAINTAINED IN THE SYSTEM, INCLUDING CATEGORIES OF USERS AND THE PURPOSES OF SUCH USES:

A. Information is maintained to assist in performing the administrative functions of the Training Office and is used to prepare class directories, class rosters and statistical reports.

B. To provide information to a Member of Congress from the record of an individual in response to an inquiry from that Member made at the request of the employee or contractor.

C. To disclose information to contractors, grantees, experts, consultants or volunteers performing or working on a contract, service or job for the Board.

D. A record may be disclosed to the National Archives and Records Administration and to the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Information is stored manually in individual file folders and electronically.

RETRIEVABILITY:

Information is retrieved by the name of the individual.

SAFEGUARDS:

The manual records are maintained in locked file cabinets and the automated portion is maintained on a password-protected computer.

RETENTION AND DISPOSAL:

Information is maintained and disposed of in accordance with General Records Schedule 1.

SYSTEM MANAGER(S) AND ADDRESS:

Administrative Officer, Recovery Accountability and Transparency Board, 1717 Pennsylvania Avenue, NW., Suite 700, Washington, DC 20006.

NOTIFICATION PROCEDURE:

Inquiries concerning this system should be directed to the Freedom of Information Act Office, Recovery Accountability and Transparency Board, 1717 Pennsylvania Avenue, NW., Suite 700, Washington, DC 20006.

RECORDS ACCESS PROCEDURES:

To locate a specific record, you must provide the name of the individual and provide at least two items of identification (date of birth, employee identification number, or similar information). The address is the same as indicated in the notification procedure.

CONTESTING RECORD PROCEDURES:

Contact the official at the address specified under notification procedure above and reasonably identify the record and specify the information to be contested.

RECORD SOURCE CATEGORIES:

(1) Current or former employees; (2) individuals from other Federal, state and local agencies; and (3) individuals from formally established training centers who may train agency employees.

EXEMPTIONS CLAIMED FOR THE SYSTEM:

None.

RATB-7

SYSTEM NAME:

Freedom of Information-Privacy Act System.

SYSTEM LOCATION:

Recovery Accountability and Transparency Board, 1717 Pennsylvania Avenue, NW., Suite 700, Washington, DC 20006.

CATEGORIES OF INDIVIDUALS COVERED BY THE SYSTEM:

(1) Individuals or organizations who have requested access to information pursuant to the Freedom of Information Act or Privacy Act; (2) individuals who have made a request to access or correct records pertaining to themselves; and (3) persons who, on behalf of another individual, have made a request to access or correct that individual's records.

CATEGORIES OF RECORDS IN THE SYSTEM:

(1) Records contain Freedom of Information Act and Privacy Act requests for Board records requested and any other correspondence or internal memoranda related to the processing of these requests; records will also contain such data as the name of requester, address of requester, and subject of request; (2) documents relevant to appeals and litigation under the Freedom of Information Act and Privacy Act.

AUTHORITY FOR MAINTENANCE OF THE SYSTEM:

5 U.S.C. 552 and 552a.

PURPOSE(S):

To assist Board staff in carrying out their responsibilities under the Freedom of Information Act and the Privacy Act.

ROUTINE USES OF RECORDS MAINTAINED IN THE SYSTEM, INCLUDING CATEGORIES OF USERS AND THE PURPOSES OF SUCH USES:

A. Public information permitted to be released to the news media and the public may be made available unless it is determined that release of the specific information in the context of a particular record would constitute an unwarranted invasion of personal privacy.

B. To provide information to a Member of Congress from the record of an individual in response to an inquiry from that Member made at the request of the employee or contractor.

C. Information may be disseminated to a Federal agency which furnished the record for the purpose of permitting a decision as to access or correction to be made by that agency or for the purpose of consulting with that agency as to the propriety of access or correction.

D. Records may be disseminated to any appropriate Federal, state, local or foreign agency for the purpose of verifying the accuracy of information submitted by an individual who has requested amendment or correction of records.

E. Release of information to the National Archives and Records Administration and the General Services Administration during a records management inspection conducted under 44 U.S.C. 2904 and 2906.

DISCLOSURE TO CONSUMER REPORTING AGENCIES:

None.

POLICIES AND PRACTICES FOR STORING, RETRIEVING, ACCESSING, RETAINING, AND DISPOSING OF RECORDS IN THE SYSTEM:

STORAGE:

Manual requests are stored in a locked file cabinet. Automated information is contained on a password-protected computer.

RETRIEVABILITY:

Requests are retrieved and filed under the name and/or personal identifier of the requester or subject of the request.

SAFEGUARDS:

Access to records is limited to Board staff who have a need for the records to perform their official duties. Request files are stored in a locked file cabinet.

RETENTION AND DISPOSAL:

Records are retained and disposed of in accordance with General Records Schedule 14.

SYSTEM MANAGER(S) AND ADDRESS:

General Counsel, Recovery Accountability and Transparency Board, 1717 Pennsylvania Avenue, NW., Suite 700, Washington, DC 20006.

NOTIFICATION PROCEDURE:

Any individual who wants to know whether this system of records contains a record about him or her, who wants access to his or her record, or who wants to contest the contents of a record, should make a written request to the Freedom of Information Act Office, Recovery Accountability and Transparency Board, 1717 Pennsylvania Avenue, NW., Suite 700, Washington, DC 20006.

RECORDS ACCESS PROCEDURES:

To locate a specific record, you must provide the name of the individual and provide at least two items of identification (date of birth, employee identification number, or similar information). The address is the same as indicated in the notification procedure.

CONTESTING RECORD PROCEDURES:

Contact the official at the address specified under notification procedure above and reasonably identify the record and specify the information to be contested.

RECORD SOURCE CATEGORIES:

Information is derived from the individuals and/or companies making requests, the system of records searched in the process of responding to requests, and other agencies referring requests for access to or correction of records.

EXEMPTIONS CLAIMED FOR THE SYSTEM:

None. Although no exemption has been claimed for this system of records, certain information may be duplicative of records contained in another system of records which may have an exemption. In those circumstances, the exemption will still apply.

RATB-8

SYSTEM NAME:

Applicants for Employment Records.

SECURITY CLASSIFICATION:

None.

SYSTEM LOCATION:

Recovery Accountability and Transparency Board, 1717 Pennsylvania Avenue, NW., Suite 700, Washington, DC 20006.

CATEGORIES OF INDIVIDUALS COVERED BY THE SYSTEM:

Persons who have applied for Federal employment or are employed in the Federal service.

CATEGORIES OF RECORDS IN THE SYSTEM:

These records contain information relating to the education and training; employment history and earnings; appraisal of past performance; convictions and offenses against the law; results from written test; appraisal of potential; honors, awards or fellowships; military service; veterans preference, birthplace; date of birth; SSN; and home address of persons who have applied for Federal employment or are employed in the Federal services and correspondence related thereto. These records may also include information concerning the date of application, qualification status, employment consideration, priority grouping, and other information relating to the consideration of the individual for employment.

AUTHORITY FOR MAINTENANCE OF THE SYSTEM:

5 U.S.C. 1302, 3301, 3302, Executive Order 10577.

PURPOSE(S):

Records in this system are used to determine individuals' eligibility and evaluate their qualifications for placement in positions within the Board.

ROUTINE USES OF RECORDS MAINTAINED IN THE SYSTEM, INCLUDING CATEGORIES OF USERS AND THE PURPOSES OF SUCH USES:

A. To respond to requests for information from the Office of Personnel Management to the extent their request is compatible with the purpose for which the records are maintained.

B. To disclose information to a congressional office from the record of an individual in response to an inquiry from a Member of Congress made at the request of that individual.

C. In the event of litigation where the defendant is (1) the Board, or any employee of the Board in his or her official capacity; (2) the United States where the Board determines that the claim, if successful, is likely to directly affect the operations of the Board; or (3) any Board employee in his or her individual capacity where the Justice Department has agreed to represent such employee, the Board may disclose such records as it deems desirable or necessary to the Department of Justice to enable that Department to present an effective defense provided such disclosure is compatible with the purpose for which the records were collected.

D. In the event that this system of records indicates a violation or potential violation of law, whether civil, criminal or regulatory in nature, and whether arising by general statute or particular program statute, or by regulation, rule or order issued pursuant thereto, the relevant records in the system of records may be referred, as a routine use, to the appropriate agency, whether Federal or foreign, charged with the responsibility of investigating or prosecuting such violation or charged with enforcing or implementing the statute, rule, regulation or order issued pursuant thereto.

E. Information may be disclosed as a “routine use” to a Federal, state or local agency maintaining civil, criminal or other relevant enforcement records or other pertinent records, such as current licenses, if necessary to obtain a record relevant to an agency decision concerning the hiring or retention of an employee, the issuance of a security clearance, the letting of a contract, or the issuance of a license, grant or other benefit. Information may be disclosed to a Federal agency, in response to its request, in connection with the hiring or retention of an employee, the issuance of a security clearance, the reporting of an investigation of an employee, the letting of a contract or the issuance of a license, grant, or other benefit by the requesting agency, to the extent that the record is relevant and necessary to the requesting agency's decision on the matter.

F. Where Federal agencies have the power to subpoena other Federal agencies' records, such as the Internal Revenue Service or the Civil Rights Commission, issue a subpoena to the Board for records, the Board will make such records available.

G. Information may be disclosed to student volunteers, individuals working under a personal services contract, and other individuals performing functions for the Board but technically not having the status of agency employees, if they need access to the records in order to perform their assigned agency functions.

POLICIES AND PRACTICES FOR STORING, RETRIEVING, ACCESSING, RETAINING, AND DISPOSING OF RECORDS IN THE SYSTEM:

STORAGE:

Variously stored in card files, discs, magnetic tape, forms and lists.

RETRIEVABILITY:

Records are indexed by any combination of name, date of birth, SSN, and identification number.

SAFEGUARD:

Access to and use of these records are limited to those persons whose official duties require such access. Personnel screening is employed to prevent unauthorized disclosure.

RETENTION AND DISPOSAL:

Records are retained until the applicant is selected for a position, or for two years. After the applicant is selected for a position, the records are filed in the Official Personnel Folder which is retained until the employee leaves the Board. If the applicant is not selected for a position within two years, the records are destroyed.

SYSTEM MANAGER(S) AND ADDRESS:

Chief, Mission Support Services, Recovery Accountability and Transparency Board, 1717 Pennsylvania Avenue, NW., Suite 700, Washington, DC 20006.

NOTIFICATION PROCEDURE:

Inquiries concerning this system should be directed to the Freedom of Information Act Office, Recovery Accountability and Transparency Board, 1717 Pennsylvania Avenue, NW., Suite 700, Washington, DC 20006.

RECORDS ACCESS PROCEDURES:

To locate a specific record, you must provide the name of the individual and provide at least two items of identification (date of birth, employee identification number, or similar information). The address is the same as indicated in the notification procedure.

CONTESTING RECORD PROCEDURES:

Contact the official at the address specified under notification procedure above and reasonably identify the record and specify the information to be contested.

RECORD SOURCE CATEGORIES:

The information is provided by current and former employees.

EXEMPTIONS CLAIMED FOR THE SYSTEM:

None.

Ivan J. Flores,
Paralegal Specialist, Recovery Accountability and Transparency Board.

[FR Doc. E9-15278 Filed 6-26-09; 8:45 am]

BILLING CODE 6820-GA-P